DEPARTMENT OF ENERGY

Federal Energy Regulatory Commission

[Docket No. ER02-1656-000]

California Independent System Operator Corporation; Notice of FERC Staff Participation

August 3, 2005.

The Federal Energy Regulatory Commission (Commission) hereby gives notice that on August 8, 2005, members of its staff will participate in a conference call on Congestion Revenue Rights (CRR) Study 2, hosted by the CAISO. The call will review participants' questions and comments on the Draft CRR Study 2 Report.

Sponsored by the CAISO, the conference call is open to all stakeholders, and staff's participation is part of the Commission's ongoing outreach efforts. The call may discuss matters at issue in Docket No. ER02-1656-000.

For further information, contact Katherine Gensler at katherine.gensler@ferc.gov; (916) 294-0275.

Linda Mitry,
Deputy Secretary.

[FR Doc. E5-4288 Filed 8-8-05; 8:45 am]

BILLING CODE 6717-01-P